DEPARTMENT OF THE INTERIOR

Fish and Wildlife Service

[FWS-R8-FHC-2012-N176; FXFR1334088TWG0W4-123-FF08EACT00]

Trinity Adaptive Management Working Group

AGENCY: Fish and Wildlife Service, Interior.

ACTION: Notice of meeting.

SUMMARY: The Trinity Adaptive Management Working Group (TAMWG) affords stakeholders the opportunity to give policy, management, and technical input concerning Trinity River (California) restoration efforts to the Trinity Management Council (TMC). The TMC interprets and recommends policy, coordinates and reviews management actions, and provides organizational budget oversight. This notice announces a joint TAMWG and TMC meeting, which is open to the public.

DATES: TAMWG and TMC will meet from 9 a.m. to 4:30 p.m. on Monday, August 20, 2012.

ADDRESSES: The morning portion of the meeting will take place at the North Fork Grange Hall, Dutch Creek Road, Junction City, CA 96048. The group will then have lunch and resume the meeting at the Strawhouse Resort, 31301 Hwy 299, Big Flat, CA 96048.

FOR FURTHER INFORMATION CONTACT: Meeting Information: Nancy J. Finley, U.S. Fish and Wildlife Service, 1655 Heindon Road, Arcata, CA 95521; telephone: (707) 822-7201. Trinity River Restoration Program (TRRP) Information: Robin Schrock, Executive Director, Trinity River Restoration Program, P.O. Box 1300, 1313 South Main Street, Weaverville, CA 96093; telephone: (530) 623-1800; email: rschrock@usbr.gov.

SUPPLEMENTARY INFORMATION: Under section 10(a)(2) of the Federal Advisory Committee Act (5 U.S.C. App.), this notice announces a joint meeting of the TAMWG and TMC. The meeting will include discussion of the following topics:

• United States Bureau of Reclamation and Rehabilitation Implementation Group update on project activities;

• Discussion of how the project was improved based on partner input;

• Discussion of project implementation challenges based on flow constraints;

• USBR RIG staff demonstration of restoration features;

• FWS staff discussion of monitoring and benefits of restoration features;

• TAMWG and TMC discussion of observations from restoration site visits;

• TAMWG and TMC identification of priority outreach/public relations;

• TAMWG,TMC, and TRRP definition of roles and responsibilities; and

• Discussion of 2013 plan to expand outreach efforts.

Completion of the agenda is dependent on the amount of time each item takes. The meeting could end early if the agenda has been completed.

Dated: July 25, 2012.
Kathleen Brubaker,
Supervisory Fish and Wildlife Biologist, Arcata Fish and Wildlife Office, Arcata, CA.

[FR Doc. 2012-18638 Filed 7-30-12; 8:45 am]

BILLING CODE 4310-55-P